DEPARTMENT OF LABOR

Office of the Secretary

Delegation of Authority

On February 24, 2010, the Department of Labor issued a memorandum delegating to the Assistant Secretary for Employment and Training the authority to supervise, direct and perform all responsibilities relating to the administration of the Office of Job Corps for an interim period. A copy of that memorandum is annexed hereto as an Appendix.

FOR FURTHER INFORMATION CONTACT: Jane Oates, Assistant Secretary for Employment and Training, Department of Labor, 200 Constitution Avenue, NW., Washington, DC 20210. Telephone: 202-693-2700. This is not a toll-free number.

Signed at Washington, DC, this 26th day of March 2010.
Hilda L. Solis,
Secretary of Labor.

U.S. Department of Labor

Office of the Secretary

February 24, 2010

MEMORANDUM FOR JANE OATES

Assistant Secretary for Employment and Training

FROM: HILDA L. SOLIS

Secretary of Labor

SUBJECT: Delegation of Authority

I am delegating to you, effective March 1, 2010, the authority to supervise, direct and perform all responsibilities relating to the administration of the Office of Job Corps within the Office of the Secretary for an interim period while preparatory work is completed for the transfer of the Office of Job Corps from the Office of the Secretary to the Employment and Training Administration. The Acting Director of the Office of Job Corps will report directly to you while this delegation of authority remains in effect.

This delegation shall be considered revoked upon the effective date of a Secretary's Order that completes the transfer of the Office of Job Corps to the Employment and Training Administration.

[FR Doc. 2010-7456 Filed 4-1-10; 8:45 am]

BILLING CODE 4510-23-P